DEPARTMENT OF LABOR

Office of the Secretary

[Secretary's Order 7-2009]

Delegation of Authority and Assignment of Responsibilities to the Director, Office of Federal Contract Compliance Programs

1. Purpose. To delegate authorities and assign responsibilities to the Director, Office of Federal Contract Compliance Programs.

2. Authorities. This Order is issued under the authority of 5 U.S.C. 301 (Departmental Regulations); 29 U.S.C. 551 et seq. (Establishment of Department; Secretary; Seal); Reorganization Plan No. 6 1950 (5 U.S.C. App. 1 Reorg. Plan 6 1950); and the authorities cited in Section 5 of this Order.

3. Directives Affected. Secretary's Order 1-2008 (Employment Standards) is hereby canceled. All other Secretary's Orders and DOL directives (including policies and guidance) which reference Secretary's Orders 1-2008 or the Employment Standards Administration are amended to refer to this Order and/or Secretary's Orders governing the Office of Workers' Compensation Programs, the Wage and Hour Division or the Office of Labor-Management Standards, as appropriate.

4. Background. This Order is occasioned by the November 8, 2009 dissolution of the Employment Standards Administration (ESA) into its four constituent components: Wage and Hour Division; Office of Federal Contract Compliance Programs; Office of Workers' Compensation Programs; and the Office of Labor-Management Standards. This Order cancels Secretary's Order 1-2008 and constitutes the Secretary's Order devolving certain authorities and responsibilities of ESA to the Office of Federal Contract Compliance Programs (OFCCP). Specifically, this Order delegates authorities and assigns responsibilities to the Director, OFCCP. The authorities and responsibilities specified below are consistent with the current ESA redelegation of authority and assignment of responsibility to OFCCP in effect at the time of this dissolution.

5. Delegation of Authority and Assignment of Responsibility.

A. The Director, Office of Federal Contract Compliance Programs is hereby delegated authority and assigned responsibility, except as hereinafter provided, for carrying out the standards, policies, programs, and activities of the Department of Labor, including those functions to be performed by the Secretary of Labor under the designated provisions of the following laws:

(1) The affirmative action provisions of the Vietnam Veterans' Readjustment Assistance Act of 1974, 38 U.S.C. 4212(a)(1), 4212(a)(2)(A), and 4212(b) (2004) and 38 U.S.C. 4212(a) and (b)(2002), subject to (i) Secretary's Order 3-2009, which remains in effect, and which, in part, delegates authority and assigns responsibility to the Assistant Secretary for Employment and Training for administering the requirements regarding priority in referral to Federal contractor employment openings and disseminating lists of Federal contractor employment openings under the Vietnam Veterans' Readjustment Assistance Act, 38 U.S.C. 4212(a)(2)(B) and (C); and (ii) Secretary's Order 3-2004, which remains in effect, and which, in part, delegates authority and assigns responsibility to the Assistant Secretary for Veterans' Employment and Training for administering the Federal contractor reporting requirements under the Vietnam Veterans' Readjustment Assistance Act, 38 U.S.C. 4212(d), and determining compliance of State agencies pursuant to 20 CFR 1001.130 regarding priority in referral to Federal contractor employment listings and disseminating lists of Federal contractor employment openings under the Vietnam Veterans' Readjustment Assistance Act, 38 U.S.C. 4212(a)(2)(B) and (C).

(2) Section 503 of the Rehabilitation Act of 1973, as amended, 29 U.S.C. 793; and Executive Order 11758 (“Delegating Authority of the President under the Rehabilitation Act of 1973”) of January 15, 1974.

(3) Executive Order 11246 “Equal Employment Opportunity” (September 24, 1965), as amended.

(4) Title I of the Americans with Disabilities Act of 1990, 42 U.S.C. 12101 et seq., and the regulations at 41 CFR part 60-742.

(5) The employment eligibility and recordkeeping provisions of the Immigration and Nationality Act of 1952, as amended, 8 U.S.C. 1324A(b)(3).

(6) Executive Order 13496 of January 30, 2009, “Notification of Employee Rights under Federal Labor Laws.”

(7) Such additional Federal laws that from time to time may assign to the Secretary or the Department duties and responsibilities similar to those listed under subparagraphs (1)-(6) of this paragraph, as directed by the Secretary.

B. The Solicitor of Labor is delegated authority and assigned responsibility for providing legal advice and assistance to all officers of the Department relating to the administration of the statutory provisions, regulations, and Executive Orders listed above. The bringing of legal proceedings under those authorities, the representation of the Secretary and/or other officials of the Department of Labor, and the determination of whether such proceedings or representations are appropriate in a given case, are delegated exclusively to the Solicitor.

6. Reservation of Authority and Responsibility.

A. The submission of reports and recommendations to the President and the Congress concerning the administration of the statutory provisions and Executive Orders listed above is reserved to the Secretary.

B. Nothing in this Order shall limit or modify the delegation of authority and assignment of responsibility to the Administrative Review Board by Secretary's Order 1-2002 (September 24, 2002).

C. Except as expressly provided, nothing in this Order shall limit or modify the provisions of any other Order, including Secretary's Order 4-2006 (Office of Inspector General).

7. Redelegation of Authority. Except as otherwise provided by law, all of the authorities delegated in this Order may be re-delegated.

8. Effective Date. This order shall become effective on November 8, 2009.

Dated: November 6, 2009.
Hilda L. Solis,
Secretary of Labor.

[FR Doc. E9-27337 Filed 11-12-09; 8:45 am]

BILLING CODE 4510-23-P